DEPARTMENT OF HEALTH AND HUMAN SERVICES

Performance Review Board Members; Appointments

Title 5, U.S.C. Section 4314(c)(4) of the Civil Service Reform Act of 1978, Public Law 95-454, requires that the appointment of Performance Review Board Members be published in the Federal Register. The following persons may be named to serve on the Performance Review Boards or Panels, which oversee the evaluation of performance appraisals of Senior Executive Service members of the Department of Health and Human Services.

Dated: November 3, 2016.
Charles McEnerney,
Director, Executive and Scientific Resources Division.

[FR Doc. 2016-27082 Filed 11-8-16; 8:45 am]

BILLING CODE 4151-17-P